DEPARTMENT OF ENERGY

Revision of a Currently Approved Information Collection for the Weatherization Assistance Program Sub-Programs

AGENCY: U.S. Department of Energy.

ACTION: Notice and request for comments.

SUMMARY: The Department of Energy (DOE) invites public comment on an extension of a currently approved collection of information that DOE is developing for submission to the Office of Management and Budget (OMB) pursuant to the Paperwork Reduction Act of 1995. The Department of Energy (DOE) has submitted an information collection request to the OMB for extension under the provisions of the Paperwork Reduction Act of 1995. The information collection requests a three- year extension of its Weatherization Assistance Program, OMB Control Number 1910-5157. The proposed collection will collect information on the status of grantee activities, expenditures, and results, to ensure that program funds are being used appropriately, effectively and expeditiously.

Comments are invited on: (a) Whether the currently approved collection of information is necessary for the proper performance of the functions of the agency, including whether the information shall have practical utility; (b) the accuracy of the agency's estimate of the burden pertaining to the approved collection of information, including the validity of the methodology and assumptions used; (c) ways to further enhance the quality, utility, and clarity of the information being collected; and (d) ways to further minimize the burden regarding the collection of information on respondents, including through the use of automated collection techniques or other forms of information technology.

DATES: Comments regarding this revision to an approved information collection must be received on or before March 7, 2014. If you anticipate difficulty in submitting comments within that period, contact the person listed in ADDRESSES as soon as possible.

ADDRESSES: Written comments may be sent to Christine Platt Patrick, EE-2K, U.S. Department of Energy, 1000 Independence Ave. SW., Washington, DC 20585, Email: Christine.Platt@ee.doe.gov.

FOR FURTHER INFORMATION CONTACT: Requests for additional information or copies of the information collection instrument and instructions should be directed to: Lauren Hall, EE-2K, U.S. Department of Energy, 1000 Independence Ave. SW., Washington, DC 20585-1290, Phone: (202) 287-1870, Fax: (202) 287-1745, Email: Lauren.Hall@ee.doe.gov.

Additional information and reporting guidance concerning the Weatherization Assistance Program (WAP) is available for review at the following Web site: http://www1.eere.energy.gov/wip/wap.html.

SUPPLEMENTARY INFORMATION: This information collection request contains: (1) OMB No. 1910-5157; (2) Information Collection Request Title: “Weatherization Assistance Program (WAP) Sub-Programs”; (3) Type of Review: Revision of a Currently Approved Information Collection; (4) Purpose: To collect information on the status of grantee activities, expenditures, and results, to ensure that program funds are being used appropriately, effectively and expeditiously (5) Annual Estimated Number of Respondents: 17; (6) Annual Estimated Number of Total Responses: 68; (7) Annual Estimated Number of Burden Hours: 816; (8) Annual Estimated Reporting and Recordkeeping Cost Burden: $32,640.00

Statutory Authority: Title V, Subtitle E of the Energy Independence and Security Act (EISA), Pub. L. 110-140 as amended (42 U.S.C. 17151 et seq.).

Issued in Washington, DC, on December 30, 2013.
AnnaMaria Garcia,
Program Manager, Office of Weatherization and Intergovernmental Programs, Office of Energy Efficiency and Renewable Energy.

[FR Doc. 2013-31539 Filed 1-3-14; 8:45 am]

BILLING CODE 6450-01-P